DEPARTMENT OF HOMELAND SECURITY

Coast Guard

[USCG 2003-15884]

Collection of Information Under Review by Office of Management and Budget (OMB): OMB Control Number 1625-0056, Labeling Required in 33 CFR Parts 181 and 183 and 46 CFR 25.10-3

AGENCY: Coast Guard, DHS.

ACTION: Request for comments.

SUMMARY: In compliance with the Paperwork Reduction Act of 1995, the Coast Guard intends to seek the approval of OMB for the renewal of one Information Collection Request (ICR). The ICR concerns Labeling Required in 33 CFR parts 181 and 183 and 46 CFR 25.10-3. Before submitting the ICR to OMB, the Coast Guard is inviting comments on it.

DATES: Comments must reach the Coast Guard on or before October 17, 2003.

ADDRESSES: To make sure that your comments and related material do not enter the docket [USCG 2003-15884] more than once, please submit them by only one of the following means:

(1) By mail to the Docket Management Facility, U.S. Department of Transportation (DOT), room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web site for the Docket Management System at http://dms.dot.gov.

(5) Electronically through Federal eRule Portal: http://www.regulations.gov.

The Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see DOT's “Privacy Act” paragraph below.

Submitting comments: If you submit a comment, please include your name and address, identify the docket number for this request for comment [USCG-2003-15884], indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Privacy Act Statement of DOT in the Federal Register published on April 11, 2000 [65 FR 19477], or you may visit http://dms.dot.gov.

Request for Comments

The Coast Guard encourages interested persons to submit comments. Persons submitting comments should include their names and addresses, identify this document [USCG 2003-15884], and give the reasons for the comments. Please submit all comments and attachments in an unbound format no larger than 8½ by 11 inches, suitable for copying and electronic filing. Persons wanting acknowledgment of receipt of comments should enclose stamped self-addressed postcards or envelopes.

Information Collection Request

Title: Labeling Required in 33 CFR parts 181 and 183 and 46 CFR 25.10-3.

OMB Control Number: 1625-0056.

Summary: The rules and safety standards contain information collections that require manufacturers of boats, uninspected commercial vessels, and associated equipment; importers; and the boating public to apply for serial numbers and to display various labels evidencing compliance.

Need: Title 46 U.S.C. 4310 gives the Coast Guard the authority to require manufacturers of recreational boats and certain items of associated equipment to comply with rules of the Coast Guard. Parts 181 and 183 of Title 33, Code of Federal Regulations, and 46 CFR 25.10-3 contain the rules and safety standards authorized by the statutes that apply to manufacturers of recreational boats, uninspected commercial vessels, and associated equipment.

Respondents: Manufacturers of recreational boats, uninspected commercial vessels, and associated equipment.

Frequency: One time a boat.

Burden: The estimated burden is 385,408 hours a year.

Dated: August 7, 2003.
Clifford I. Pearson,
Director of Information and Technology.

[FR Doc. 03-21089 Filed 8-15-03; 8:45 am]

BILLING CODE 4910-15-U